DEPARTMENT OF TRANSPORTATION

Research and Special Programs Administration

Office of Hazardous Materials Safety, Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before June 23, 2004.

ADDRESSES: Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC, or at http://dms.dot.gov.

This notice of receipt of applications for modification of exemption is published in accordance with part 107 of the Federal hazardous materials transportation law (49 U.S.C. 5117(b); 49 CFR 1.53(b)).

Issued in Washington, DC, on May 18, 2004.
R. Ryan Posten,
Exemptions Program Officer, Office of Hazardous Materials Safety Exemptions & Approvals.

New Exemptions—April 2004
Application No. | Docket No. | Applicant | Regulation(s) affected | Nature of exemption thereof
13558-N | RSPA-2004-17737 | Boeing Company Mesa, AZ | 49 CFR 173.62(b) | To authorize the one-time transportation in commerce of munitions to hazardous waste disposal facility in original containers instead of performance-oriented packaging. (mode 1).
13559-N | RSPA-2004-17739 | The Dow Chemical Company Midland, MI | 49 CFR 180.605(c)(2) | To authorize an alternative method of testing DOT-Specification 51 portable tanks for use in transporting certain Division 2.2 materials. (mode 1).
13560-N | RSPA-2004-17740 | Texaco Ovonic Hydrogen Systems L.L.C. (TOHS) Rochester Hills, MI | 49 CFR 173.301(a)(1); 173.301(d) | To authorize the transportation in commerce of hydrogen in a metal hydride storage system that utilize non-DOT specification cylinders. (mode 1).
13561-N | RSPA-2004-17741 | Sigma-Aldrich Corporation Milwaukee, WI | 49 CFR 171-180 | To authorize the one-time transportation in commerce of certain hazardous materials to a new site to be transported as essentially unregulated. (mode 1).
13562-N |  | TRW Vehicle Safety Washington, MI | 49 CFR 173.166(e)(4) | To authorize the transportation of airbag inflators, air bag modules and seat belt pretensioners in reusable containers of wooden construction. (mode 1).
13563-N |  | Applied Companies Valencia, CA | 49 CFR 178.53 | To authorize the transportation in commerce of non-DOT specification cylinders charged with nitrogen, compressed. (modes 4, 5).

[FR Doc. 04-11690 Filed 5-21-04; 8:45 am]

BILLING CODE 4909-60-M